DEPARTMENT OF JUSTICE

Notice of Federal Advisory Committee Meeting

AGENCY: Department of Justice.

ACTION: Notice of Federal Advisory Committee Meeting.

SUMMARY: This notice announces a forthcoming public meeting of the National Commission on Forensic Science.

DATES: The meeting will be held on May 12, 2014, from 1:00 p.m. to 5:00 p.m. and May 13, 2014 from 9 a.m. to 5:00 p.m. Online registration for the meeting must be completed on or before 5:00 p.m. (EST) May 5, 2014.

Location: Office of Justice Programs, 3rd floor ballroom, 810 7th Street NW., Washington, DC 20531.

FOR FURTHER INFORMATION CONTACT: Brette Steele, Senior Advisor on Forensic Science and Senior Counsel to the Deputy Attorney General, by email at Brette.L.Steele@usdoj.gov or by phone at (202) 305-0180.

SUPPLEMENTARY INFORMATION: Agenda and Meeting Materials: On May 12, the Commission will explore issues of cognitive bias and ethics in forensic science. On May 13, NIST will deliver an update on the Organization of Scientific Area Committees. The remainder of the meeting will include reports from the following subcommittees: Accreditation and Proficiency Testing; Interim Solutions; Medico-legal Death Investigation; Reporting and Testimony; Scientific Inquiry and Research; Training on Science and Law. The Commission will receive oral comments from the public from 4:30 p.m. to 5:00 p.m. each business day. All meeting materials will be made available to the public on http://www.facadatabase.gov under committee number 83353.

Registration: The meeting will be open to the public and webcast. Those interested in attending the meeting in person must register online at http://conferences.csrincorporated.com using conference code: 2014-107P no later than 5:00 p.m. (EST) May 5, 2014. Seating in the meeting room is limited and will be available on a first-come, first-served basis. Those interested in viewing the webcast may visit http://stream.sparkstreetdigital.com/player-ce.html?id=doj-may12 while the meeting is in progress.

Public Comments: Individuals interested in making oral comments should indicate their intent through the on-line registration form. Three-minute public comment slots will be allocated on a first-come, first-served basis. If the number of registrants requesting to speak is greater than can be reasonably accommodated during the scheduled public comment periods, written comments will be accepted in lieu of oral comments. Written public comments may be submitted to Brette Steele no later than 5:00 p.m. (EST) on May 5, 2014.

Posting of Public Comments: In accordance with the Federal Records Act, please note that all comments received are considered part of the public record, and shall be made available for public inspection and posted online. The comments to be posted may include personally identifiable information (such as your name, address, etc.) and confidential business information voluntarily submitted by the commenter.

If you want to submit personally identifiable information (such as your name, address, etc.) as part of your comment, but do not want it to be made available for public inspection and posted online, you must include the phrase “PERSONALLY IDENTIFIABLE INFORMATION” in the first paragraph of your comment. You must also place all the personally identifiable information you do not want made available for public inspection or posted online in the first paragraph of your comment and identify what information you want redacted.

If you want to submit confidential business information as part of your comment, but do not want it to be made available for public inspection and posted online, you must include the phrase “CONFIDENTIAL BUSINESS INFORMATION” in the first paragraph of your comment. You must also prominently identify confidential business information to be redacted within the comment. If a comment has so much confidential business information that it cannot be effectively redacted, all or part of that comment may not be made available for public inspection or posted online.

Personally identifiable information and confidential business information identified and located as set forth above will be redacted and the comment, in redacted form, will be made available for public inspection and posted on the Commission's Web site.

Accommodations: The Department of Justice welcomes the attendance of the public at its advisory committee meetings and will make every effort to accommodate persons with physical disabilities or special needs. If you require special accommodations, please indicate your requirements on the on-line registration form.

James M. Cole,
Deputy Attorney General.

[FR Doc. 2014-09101 Filed 4-21-14; 8:45 am]

BILLING CODE 4410-18-P